COMMITTEE FOR THE IMPLEMENTATION OF TEXTILE AGREEMENTS

Adjustment of Import Limits for Certain Cotton, Wool, Man-Made Fiber, Silk Blend and Other Vegetable Fiber Textiles and Textile Products Produced or Manufactured in Thailand

August 10, 2004.

AGENCY: Committee for the Implementation of Textile Agreements (CITA).

ACTION: Issuing a directive to the Commissioner, Bureau of Customs and Border Protection adjusting limits.

EFFECTIVE DATE: August 16, 2004.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the Bureau of Customs and Border Protection Web site at http://www.cbp.gov. For information on embargoes and quota re-openings, refer to the Office of Textiles and Apparel Web site at http://otexa.ita.doc.gov.

SUPPLEMENTARY INFORMATION:

Authority: Section 204 of the Agricultural Act of 1956, as amended (7 U.S.C. 1854); Executive Order 11651 of March 3, 1972, as amended.

The current limits for certain categories are being adjusted for swing, carryover, and the recrediting of unused carryforward.

A description of the textile and apparel categories in terms of HTS numbers is available in the CORRELATION: Textile and Apparel Categories with the Harmonized Tariff Schedule of the United States (see Federal Register notice 69 FR 4926, published on February 2, 2004). Also see 68 FR 60923, published on October 24, 2003.

James C. Leonard III,
Chairman, Committee for the Implementation of Textile Agreements.

Committee for the Implementation of Textile Agreements

August 10, 2004.

Commissioner,

Bureau of Customs and Border Protection, Washington, DC 20229

Dear Commissioner: This directive amends, but does not cancel, the directive issued to you on October 20, 2003, by the Chairman, Committee for the Implementation of Textile Agreements. That directive concerns imports of certain cotton, wool, man-made fiber, silk blend and other vegetable fiber textiles and textile products, produced or manufactured in Thailand and exported during the twelve-month period which began on January 1, 2004 and extends through December 31, 2004.

Effective on August 16, 2004, you are directed to adjust the limits for the following categories, as provided for under the Uruguay Round Agreement on Textiles and Clothing:

Category | Adjusted twelve-month limit ¹
Levels in Group I |
200 | 2,319,678 kilograms.
218 | 33,979,568 square meters.
219 | 11,925,806 square meters.
300 | 8,242,180 kilograms.
301-O ² | 1,714,639 kilograms.
314-O ³ | 86,629,266 square meters.
315-O ⁴ | 61,858,143 square meters.
317-O/326-O ⁵ | 25,968,648 square meters.
363 | 38,769,496 numbers.
369-S ⁶ | 618,582 kilograms.
604 | 1,447,270 kilograms of which not more than 927,871 kilograms shall be in Category 604-A ⁷.
613/614/615 | 93,487,125 square meters of which not more than 54,435,168 square meters shall be in Categories 613/615 and not more than 54,435,168 square meters shall be in Category 614.
619 | 13,542,664 square meters.
620 | 13,416,528 square meters.
625/626/627/628/629 | 27,267,077 square meters of which not more than 21,650,350 square meters shall be in Category 625.
Group II |
237, 331pt.⁸, 332-348, 351, 352, 359pt. ⁹, 433-438, 440, 442-448, 459pt. ¹⁰, 631pt. ¹¹, 633-648, 651, 652, 659-H ¹², 659pt. ¹³, 845, 846 and 852, as a group | 520,025,310 square meters equivalent.
Sublevels in Group II |
334/634 | 1,206,235 dozen.
335/635 | 968,663 dozen.
336/636 | 629,967 dozen.
338/339 | 2,969,811 dozen.
340 | 540,379 dozen.
341/641 | 1,328,541 dozen.
342/642 | 1,204,439 dozen.
345 | 566,476 dozen.
347/348 | 1,487,030 dozen.
351/651 | 447,217 dozen.
433 | 11,804 dozen.
434 | 15,227 dozen.
435 | 69,195 dozen.
438 | 22,841 dozen.
442 | 26,523 dozen.
638/639 | 3,453,040 dozen.
640 | 1,020,656 dozen.
645/646 | 618,582 dozen.
647/648 | 2,122,792 dozen.
¹ The limits have not been adjusted to account for any imports exported after December 31, 2003.
² Category 301-O: only HTS numbers 5205.21.0020, 5205.21.0090, 5205.22.0020, 5205.22.0090, 5205.23.0020, 5205.23.0090, 5205.24.0020, 5205.24.0090, 5205.26.0020, 5205.26.0090, 5205.27.0020, 5205.27.0090, 5205.28.0020, 5205.28.0090, 5205.41.0020, 5205.41.0090, 5205.42.0020, 5205.42.0090, 5205.43.0020, 5205.43.0090, 5205.44.0020, 5205.44.0090, 5205.46.0020, 5205.46.0090, 5205.47.0020, 5205.47.0090, 5205.48.0020 and 5205.48.0090.
³ Category 314-O: all HTS numbers except 5209.51.6015.
⁴ Category 315-O: all HTS numbers except 5208.52.4055.
⁵ Category 317-O: all HTS numbers except 5208.59.2085; Category 326-O: all HTS numbers except 5208.59.2015, 5209.59.0015 and 5211.59.0015.
⁶ Category 369-S: only HTS number 6307.10.2005.
⁷ Category 604-A: only HTS number 5509.32.0000.
⁸ Categories 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
⁹ Category 359pt.: all HTS numbers except 6115.19.8010, 6117.10.6010, 6117.20.9010, 6203.22.1000, 6204.22.1000, 6212.90.0010, 6214.90.0010, 6406.99.1550, 6505.90.1525, 6505.90.1540, 6505.90.2060 and 6505.90.2545.
¹⁰ Category 459pt.: all HTS numbers except 6115.19.8020, 6117.10.1000, 6117.10.2010, 6117.20.9020, 6212.90.0020, 6214.20.0000, 6405.20.6030, 6405.20.6060, 6405.20.6090, 6406.99.1505 and 6406.99.1560.
¹¹ Category 631pt.: all HTS numbers except 6116.10.1730, 6116.10.4820, 6116.10.5520, 6116.10.7520, 6116.93.8800, 6116.93.9400, 6116.99.4800, 6116.99.5400 and 6116.99.9530.
¹² Category 659-H: only HTS numbers 6502.00.9030, 6504.00.9015, 6504.00.9060, 6505.90.5090, 6505.90.6090, 6505.90.7090 and 6505.90.8090.
¹³ Category 659pt.: all HTS numbers except 6502.00.9030, 6504.00.9015, 6504.00.9060, 6505.90.5090, 6505.90.6090, 6505.90.7090, 6505.90.8090 (Category 659-H); 6115.11.0010, 6115.12.2000, 6117.10.2030, 6117.20.9030, 6212.90.0030, 6214.30.0000, 6214.40.0000, 6406.99.1510 and 6406.99.1540.

The Committee for the Implementation of Textile Agreements has determined that these actions fall within the foreign affairs exception to the rulemaking provisions of 5 U.S.C. 553(a)(1).

Sincerely,

James C. Leonard III,

Chairman, Committee for the Implementation of Textile Agreements.

[FR Doc. 04-18527 Filed 8-12-04; 8:45 am]

BILLING CODE 3510-DR-S